DEPARTMENT OF ENERGY

Federal Energy Regulatory Commission

[Project No. 2514-029]

Appalachian Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2514-029.

c. Date filed: February 28, 2022. Supplemented on February 28, 2023.

d. Applicant: Appalachian Power Company (Appalachian).

e. Name of Project: Byllesby-Buck Hydroelectric Project (Byllesby-Buck Project or project).

f. Location: On the New River in Carroll County, Virginia.

g. Filed Pursuant to: Federal Power Act 16 U.S.C. 791(a)-825(r).

h. Applicant Contact: Ms. Elizabeth Parcell, Process Supervisor, American Electric Power Service Corporation, 40 Franklin Road SW, Roanoke, Virginia 24011, (540) 985-2441, ebparcell@aep.com.

i. FERC Contact: Jody Callihan at (202) 502-8278 or email at jody.callihan@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Byllesby-Buck Hydroelectric Project (P-2514-029).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23453-70). The final rule became effective on May 20, 2022. Commission staff intends to conduct its NEPA review in accordance with CEQ's new regulations.

l. The Byllesby-Buck Project consists of two developments (Byllesby and Buck) that have a combined total installed capacity of 26.1 megawatts (MW). The Byllesby Development is located 3 river miles upstream of the Buck Development. The project had an average annual generation of 92,820 megawatt-hours (MWh) between 2016 and 2020.

The Byllesby Development consists of: (1) a 64-foot-high, 528-foot-long concrete dam, sluice gate, and main spillway section topped with four sections of 9-foot-high flashboards, five sections of 9-foot-high inflatable Obermeyer crest gates, and six bays of 10-foot-high Tainter gates; (2) an auxiliary spillway including six sections of 9-foot-high flashboards; (3) a 239-acre impoundment with a gross storage capacity of 2,000 acre-feet; (4) a powerhouse containing four turbine-generator units with a total installed capacity of 18.0 megawatts (MW); (5) a control house and switchyard; and (6) appurtenant facilities.

The Buck Development consists of: (1) a 42-foot-high, 353-foot-long concrete dam and sluice gate; (2) a 1,005-foot-long, 19-foot-high spillway section topped with twenty sections of 9-foot-high flashboards, four sections of 9-foot-high inflatable crest gates, and six bays of 10-foot-high Tainter gates; (3) a 66-acre impoundment with a gross storage capacity of 661 acre-feet; (4) a powerhouse containing three turbine-generator units with a total installed capacity of 8.1 MW; (5) two 2-mile-long overhead 13.2-kilovolt transmission lines extending from the Buck powerhouse to the Byllesby control house; and (6) appurtenant facilities.

The Byllesby-Buck Project is currently operated in a run-of-river (ROR) mode, with the Byllesby impoundment maintained between elevations of 2,078.2 feet and 2,079.2 feet National Geodetic Vertical Datum of 1929 (NGVD 29) and the Buck impoundment maintained between elevations of 2,002.4 feet and 2,003.4 feet NGVD 29. A minimum flow of 360 cubic feet per second (cfs), or project inflow if less, is provided downstream of each powerhouse. There is a bypassed reach at each development (590 feet long at Byllesby and 4,100 feet long at Buck), but there is currently no dedicated minimum flow for either of the bypassed reaches, which receive leakage flow of approximately 11 cfs (Byllesby) and 17 cfs (Buck). Article 406 of the current license specifies the down-ramping rates and procedures currently required at the Buck Development to minimize stranding of adult walleye (in the bypassed reach) following large spill events that occur during the spawning season (late winter through spring).

Appalachian proposes to continue operating the project in a ROR mode and providing a 360-cfs minimum flow downstream of each powerhouse (Byllesby and Buck). In addition, Appalachian proposes to release a continuous, year-round minimum flow of 35 cfs into the Byllesby bypassed reach. At the Buck Development, Applachian proposes to modify the existing down-ramping procedures and provide a seasonal minimum flow of 100 cfs in the bypassed reach (from February 15 through May 15 of each year) to increase habitat connectivity and water depths in the reach to provide adult walleye with additional escape routes during the spawning season. In addition to these measures, Appalachian proposes environmental measures for the protection and enhancement of other aquatic resources as well as terrestrial, recreation, and cultural resources.

Appalachian also proposes to upgrade three (of the four) turbine-generator units at the Byllesby Development and two (of the three) turbine-generator units at the Buck Development. The proposed upgrades are expected to increase the total installed capacity from 26.1 MW to 29.8 MW and the project's average annual generation by 25,927 MWh. In addition, Appalachian proposes to replace three flashboard sections at the Byllesby Development and six flashboard sections at the Buck Development with inflatable (Obermeyer) crest gates. Lastly, Appalachian proposes to add to the current project boundary: (1) the Byllesby control house and switchyard and (2) two 2-mile-long, overhead 13.2-kilovolt transmission lines that extend from the Buck powerhouse to the Byllesby control house.

m. This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following schedule. Revisions to the schedule may be made as appropriate.

Milestone | Target date
Filing of Comments, Recommendations, Preliminary Terms and Conditions, and Preliminary Fishway Prescriptions | December 12, 2023.
Filing of Reply Comments | January 26, 2024.

p. Final amendments to the application must be filed with the Commission no later than 30 days from the issuance date of this notice.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 13, 2023.
Kimberly D. Bose,
Secretary.

[FR Doc. 2023-23100 Filed 10-18-23; 8:45 am]

BILLING CODE 6717-01-P